DEPARTMENT OF COMMERCE

International Trade Administration

[A-583-008]

Certain Circular Welded Carbon Steel Pipes and Tubes from Taiwan: Notice of Intent to Rescind Administrative Review

AGENCY: Import Administration, International Trade Administration, Department of Commerce.

SUMMARY: In response to a request from Allied Tube & Conduit Corporation, a domestic interested party, the Department of Commerce (the Department) initiated an administrative review of the antidumping duty order on certain circular welded carbon steel pipes and tubes from Taiwan. This review covers one firm, Yieh Hsing Enterprise Co., Ltd. (Yieh Hsing), for the period May 1, 2007, through April 30, 2008. The Department intends to rescind this review after determining that Yieh Hsing did not have entries during the period of review (POR) upon which to assess antidumping duties.

EFFECTIVE DATE: January 21, 2009.

FOR FURTHER INFORMATION CONTACT: Steve Bezirganian or Robert James, AD/CVD Operations, Office 7, Import Administration, International Trade Administration, U.S. Department of Commerce, 14th Street and Constitution Avenue, NW, Washington, DC 20230; telephone (202) 482-1131 or (202) 482-0649, respectively.

SUPPLEMENTARY INFORMATION: The Department published an antidumping duty order on certain circular welded carbon steel pipes and tubes from Taiwan on May 7, 1984. See Certain Circular Welded Carbon Steel Pipes and Tubes From Taiwan: Antidumping Duty Order, 49 FR 19369 (May 7, 1984). The Department published a notice of “Opportunity to Request an Administrative Review” of the antidumping duty order for the period May 1, 2007, through April 30, 2008, on May 5, 2008. See Antidumping or Countervailing Duty Order, Finding, or Suspended Investigation; Opportunity To Request Administrative Review, 73 FR 24532 (May 5, 2008). On May 30, 2008, Allied Tube & Conduit Corporation, a producer of the domestic like product, requested that the Department conduct an administrative review of Yieh Hsing's exports of merchandise covered by the order. In response to the request from Allied Tube & Conduit Corporation, on July 1, 2008, the Department published the initiation of the antidumping duty administrative review on certain circular welded carbon steel pipes and tubes from Taiwan, pursuant to section 751(a) of the Tariff Act of 1930, as amended (the Act). See Initiation of Antidumping and Countervailing Duty Administrative Reviews and Requests for Revocation in Part, 73 FR 37409 (July 1, 2008).

On August 18, 2008, Yieh Hsing submitted a letter to the Department certifying that it had no shipments of subject merchandise to the United States during the POR. On August 20, 2008, Allied Tube & Conduit Corporation submitted a letter requesting that the review be extended to cover Yieh Phui Enterprise Company, Ltd. (Yieh Phui), noting that Yieh Phui had been found to be the successor-in-interest to Yieh Hsing in a prior proceeding. On August 25, 2008, Yieh Hsing and another interested party, SeAH Steel America (SeAH), each submitted letters objecting to the extension of the review to cover Yieh Phui. On August 27, 2008, Allied Tube & Conduit Corporation filed a response to SeAH's comments, reiterating its request that the review be extended to cover Yieh Phui. On November 14, 2008, the Department determined that the review should not be extended to Yieh Phui. See the November 14, 2008 memorandum to the file entitled “Treatment of Yieh Hsing Enterprise Co., Ltd. (Yieh Hsing) and Yieh Phui Enterprise Co. Ltd. (Yieh Phui): 2007/2008 Administrative Review of the Antidumping Duty Order on Circular Welded Carbon Steel Pipes and Tubes from Taiwan.”

On November 18, 2008, the Department conducted a data query of U.S. Customs and Border Protection (CBP) import entry information, and found no evidence of entries during the POR involving subject merchandise manufactured or shipped by Yieh Hsing. See the December 23, 2008, memorandum from Steve Bezirganian to the File. The Department issued a “No Shipment Inquiry” to CBP, to confirm that there were no POR exports of subject merchandise manufactured and/or exported by Yieh Hsing. See CBP message number 8357202, dated December 22, 2008. CBP only responds to the Department's inquiry when CBP finds that there have been shipments. CBP did not respond to our inquiry. Therefore, we preliminarily determine there were no Yieh Hsing shipments or entries of subject merchandise exported by Yieh Hsing to the United States during the POR.

Scope of the Order

The merchandise covered by the order is certain circular welded carbon steel pipes and tubes from Taiwan, which are defined as: welded carbon steel pipes and tubes, of circular cross section, with walls not thinner than 0.065 inch, and 0.375 inch or more but not over 4.5 inches in outside diameter, currently classified under Harmonized Tariff Schedule of the United States (HTSUS) item numbers 7306.30.5025, 7306.30.5032, 7306.30.5040, and 7306.30.5055. Although the HTSUS subheadings are provided for convenience and customs purposes, the written description of the scope of the order is dispositive.

Intent To Rescind Administrative Review

Pursuant to 19 CFR 351.213(d)(3), the Department may rescind an administrative review if it concludes that during the POR there were no entries, exports, or sales of the subject merchandise. The Department's practice, supported by precedent, requires that there be entries during the POR upon which to assess antidumping duties. See, e.g., Stainless Steel Bar from Italy: Preliminary Results of Antidumping Duty Administrative Review and Preliminary Rescission of Review, 70 FR 17656 (April 7, 2005) unchanged in Stainless Steel Bar from Italy: Final Results of Antidumping Duty Administrative Review and Rescission of Review, 70 FR 46480 (August 10, 2005).

Yieh Hsing certified that it had no entries of subject merchandise during the 2007-2008 POR, and the Department's review of official data from CBP did not indicate otherwise. Therefore, we have preliminarily determined that Yieh Hsing had no shipments of subject merchandise during the POR, and we intend to rescind the 2007-2008 administrative review.

Public Comment

Interested parties may submit case briefs not later than 30 days after the date of publication of this notice. See 19 CFR 351.309(c). Rebuttal briefs, which must be limited to issues raised in such briefs, must be filed not later than five days after the time limit for filing casing briefs. See 19 CFR 351.309(d). Parties who submit arguments are requested to submit with the argument (1) a statement of the issue, (2) a brief summary of the argument, and (3) a table of authorities. Further, parties submitting written comments should provide the Department with an additional copy of the public version of any such comments on diskette. An interested party may request a hearing within 30 days of publication of this notice. Any hearing, if requested, will be held 37 days after the date of publication of this notice, or the first working day thereafter. See 19 CFR 351.310. We will issue our final decision concerning the conduct of the review no later than 120 days from the date of publication of this notice.

This notice is published in accordance with section 777(i)(1) of the Act and 19 CFR 351.213(d)(4).

Dated: January 13, 2009.
Gary Taverman,
Acting Deputy Assistant Secretary for Antidumping and Countervailing Duty Operations.

[FR Doc. E9-1115 Filed 1-16-09; 8:45 am]

BILLING CODE 3510-DS-S